COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 7/21/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 1/31/2014 (79 FR 5383); 4/21/2014 (79 FR 22104-22105); 4/25/2014 (79 FR 22951-22952); 5/2/2014 (79 FR 25115); and 5/16/2014 (79 FR 28490-28491), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7350-00-290-0586—Cup, Disposable, Paper, Hot Food, 16 oz, White

NSN: 7350-00-926-9233—Plate, Paper, Disposable, 3-Compartmented Tray, Rectangular, White, 8″ x 10″

NPA: The Lighthouse for the Blind in New Orleans, Inc., New Orleans, LA

Contracting Activity: General Services Administration, Fort Worth, TX

Coverage: A-List for the Total Government Requirement as aggregated by the General Services Administration, Fort Worth, TX.

NSN: MR 592—Pad, Cleaning, Sponge and Eraser, 2PK

NPA: New York City Industries for the Blind, Inc., Brooklyn, NY

Contracting Activity: Defense Commissary Agency, Fort Lee, VA

Coverage: C-List for the requirements of military commissaries and exchanges as aggregated by the Defense Commissary Agency, Fort Lee, VA.

NSN: MR 339—Slicer, Banana, Plastic

NSN: MR 340—Fruit Slicer, Round

NSN: MR 341—Food Chopper, Double Bladed, Stainless

NSN: MR 362—Set, Salad Bowl, Event Serverware

NSN: MR 363—Set, Pitcher and Tumbler, Event Serverware

NSN: MR 364—Set, Ice Bucket and Goblet, Event Serverware

NSN: MR 383—Server, Beverage, w Spout, 1.25G

NSN: MR 1096—Rack, Storage, Broom and Mop, Metal

NSN: MR 1097—Utility Knife, Light Duty, Retractable

NPA: Industries for the Blind, Inc., West Allis, WI

Contracting Activity: Defense Commissary Agency, Fort Lee, VA

Coverage: C-List for the requirements of military commissaries and exchanges as aggregated by the Defense Commissary Agency, Fort Lee, VA.

NSN: MR 333—Utensil, Splitter, Mango

NSN: MR 334—Turner, Omelet

NSN: MR 337—Scrubber Brush, Produce

NSN: MR 830—Spinner, Salad

NPA: Cincinnati Association for the Blind, Cincinnati, OH

Contracting Activity: Defense Commissary Agency, Fort Lee, VA

Coverage: C-List for the requirements of military commissaries and exchanges as aggregated by the Defense Commissary Agency, Fort Lee, VA.

NSN: MR 10640—Bowl, Dressing Dispenser, Salad

NPA: Winston-Salem Industries for the Blind, Inc., Winston-Salem, NC

Contracting Activity: Defense Commissary Agency, Fort Lee, VA

Coverage: C-List for the requirements of military commissaries and exchanges as aggregated by the Defense Commissary Agency, Fort Lee, VA.

Premium Grade Screwdrivers

NSN: 5120-00-NIB-0072—3/16w Slotted Tip, Premium Grade, 3″

NSN: 5120-00-NIB-0073—¼w Slotted Tip, Premium Grade, 4″

NSN: 5120-00-NIB-0074—5/16w Slotted Tip, Premium Grade, 6″

NSN: 5120-00-NIB-0075—⅜w Slotted Tip, Premium Grade, 8″

NSN: 5120-00-NIB-0076—7/16w Slotted Tip, Premium Grade, 10″

NSN: 5120-00-NIB-0077—¼w Slotted Tip, Premium Grade, 1-⅞″

NSN: 5120-00-NIB-0078—#1 Phillips, Premium Grade, 3″

NSN: 5120-00-NIB-0079—#2 Phillips, Premium Grade, 4″

NSN: 5120-00-NIB-0080—#2 Phillips, Premium Grade, 8″

NSN: 5120-00-NIB-0081—#3 Phillips, Premium Grade, 6″

NSN: 5120-00-NIB-0082—#4 Phillips, Premium Grade, 6″

NSN: 5120-00-NIB-0083—#2 Phillips, Premium Grade, 1-½

NSN: 5120-00-NIB-0084—Set, 3/16-⅜w Slotted Tip, Premium Grade, 6PC

NSN: 5120-00-NIB-0085—Set, Phillips, Premium Grade, 6PC

NSN: 5120-00-NIB-0086—Set, Assorted, Premium Grade, 7PC

NPA: Industries for the Blind, Inc., West Allis, WI

Contracting Activity: General Services Administration, Tools Acquisition Division I, Kansas City, MO

Coverage: B-List for the Broad Government Requirement as aggregated by the General Services Administration, Kansas City, MO.

Services

Service Type/Locations: Building Operations and Maintenance Service

GSA, PBS, Region 2, Theodore Roosevelt US Courthouse, South Wing, Emanuel Celler US Courthouse, North Wing, 225 Cadman Plaza East, Brooklyn, NY

GSA, PBS, Region 2, U.S. Post Office and Conrad B. Duberstein Bankruptcy Courthouse, 271 Cadman Plaza East, Brooklyn, NY

NPA: Fedcap Rehabilitation Services, Inc., New York, NY

Contracting Activity: GSA/Public Buildings Service, Brooklyn, NY

Service Type/Location: Janitorial Service

U.S. Coast Guard, Air Station Atlantic City, William J. Hughes Federal Aviation Administration Technical Center, Atlantic City International Airport, FAA Technical Center, Building 350, Egg Harbor Township, NJ

NPA: Fedcap Rehabilitation Services, Inc., New York, NY

Contracting Activity: Department of Homeland Security, U.S. Coast Guard, Base Portsmouth, Portsmouth, VA

Service Type/Location: Healthcare Housekeeping and Related Service

U.S. Army Medical Command, Madigan Army Medical Center and affiliated Medical Treatment Facilities, Joint Base Lewis-McChord, WA

NPA: HHI Services Inc., San Antonio, TX

Contracting Activity: Dept of the Army, W40M USA MEDCOM HCAA, Fort Sam Houston, TX

Service Type/Location: Warehouse Service

Social Security Administration, Birmingham Social Security Center, 1200 Rev. Abraham Woods, Jr. Blvd., Birmingham, AL

NPA: Alabama Goodwill Industries, Inc., Birmingham, AL

Contracting Activity: Social Security Administration, HDQTRS—Office of Acquisition & Grants, Baltimore, MD

Barry S. Lineback,
Director, Business Operations.

[FR Doc. 2014-14464 Filed 6-19-14; 8:45 am]

BILLING CODE 6353-01-P